DEPARTMENT OF HOMELAND SECURITY

8 CFR Parts 103, 204, 213a, 299, and 322

[CIS No. 2098-00; DHS Docket No. USCIS-2007-0008]

RIN 1615-AA43

Classification of Aliens as Children of United States Citizens Based on Intercountry Adoptions Under the Hague Convention; Re-Opening and Extension of the Comment Period

AGENCY: U.S. Citizenship and Immigration Services, DHS.

ACTION: Interim rule; re-opening and extension of the comment period.

SUMMARY: On October 4, 2007, The Department of Homeland Security (DHS) published an interim rule in the Federal Register at 72 FR 56832, establishing rules necessary for the ratification and implementation of the Convention on Protection of Children and Co-operation in Respect of Intercountry Adoption, signed at The Hague on May 29, 1993 (“Convention”). The comment period ended December 3, 2007. Of the 54 comments received by DHS, most requested an extension of the comment period to allow sufficient time to provide meaningful and substantive comments. DHS is re-opening and extending the comment period for 60 days until May 27, 2008.

DATES: Written comments must be submitted on or before May 27, 2008. Comments received beyond this date will not be considered.

ADDRESSES: You may submit comments to DHS, identified by DHS Docket No. USCIS-2007-0008, by any of the following methods:

• Federal eRulemaking Portal: http://www.regulations.gov. Follow the instructions for submitting comments.

• Mail: Chief, Regulatory Management Division, U.S. Citizenship and Immigration Services, Department of Homeland Security, 111 Massachusetts Avenue, NW., Suite 3008, Washington, DC 20529. To ensure proper handling, please reference DHS Docket No. USCIS-2007-0008 on your correspondence. This mailing address may also be used for paper, disk, or CD-ROM submissions.

• Hand Delivery/Courier: Regulatory Management Division, U.S. Citizenship and Immigration Services, Department of Homeland Security, 111 Massachusetts Avenue, NW., Suite 3008, Washington, DC 20529. Contact Telephone Number (202) 272-8377.

FOR FURTHER INFORMATION CONTACT: Michael Valverde, Chief, Children's Issues, U.S. Citizenship and Immigration Services, Department of Homeland Security, 20 Massachusetts Avenue, NW., Suite 3300, Washington, DC 20529, telephone (202) 272-9176.

SUPPLEMENTARY INFORMATION:

Interim Rule

On October 4, 2007, the DHS published in the Federal Register at 72 FR 56832 an interim rule entitled “Classification of Aliens as Children of United States Citizens Based on Intercountry Adoptions Under the Hague Convention.” The interim rule established the Department of Homeland Security rules necessary for the ratification and implementation of the Convention on Protection of Children and Co-operation in Respect of Intercountry Adoption, signed at The Hague on May 29, 1993 (“Convention”). The interim rule entered into force on November 5, 2007, although actual implementation of the interim rule will not occur until the Convention enters into force for the United States. The comment period for the interim rule ended December 3, 2007.

Implementation

On November 16, 2007, the President signed the instrument of ratification for the Convention. The Department of State deposited the instrument of ratification with the Ministry of Foreign Affairs of the Kingdom of the Netherlands on December 12, 2007. On December 18, 2007, the Department of State published in the Federal Register at 72 FR 71730 a written notice that the Convention will enter into force for the United States on April 1, 2008. Accordingly, the DHS interim rule published on October 4, 2007, will also enter into force April 1, 2008. 8 CFR 204.300(a).

Comments

As of December 3, 2007, 54 comments had been received on the interim rule. Most of the comments did not address any issue raised by the interim rule. Rather, these comments requested an extension of the comment period. These commenters contend that the 60-day comment period did not provide sufficient time for them to submit substantive comments. Many of these commenters requested additional time to comment.

As a legal matter, the 60-day comment period provided for by the interim rule is sufficient. The Administrative Procedure Act, 5 U.S.C. 553, generally contemplates a 30-day comment period. Section 6(a)(1) of Executive Order 12866, Regulatory Planning and Review, as amended by Executive Order 13422, 72 FR 2763, references a 60-day benchmark for establishing an appropriate comment period. Nevertheless, DHS has determined as a matter of policy that the importance of the implementation of the Convention makes it reasonable for DHS to agree to the request for an additional comment period. DHS has also determined that it is possible to re-open the comment period without delaying implementation of the interim rule. Accordingly, DHS has decided to re-open and extend the comment period.

All comments received by May 27, 2008 will be considered by DHS in preparing the final rule. Note that this extension of the comment period does not delay the implementation of the interim rule. The interim rule itself entered into force on November 5, 2007. Implementation will still begin on April 1, 2008, when the Convention enters into force for the United States. 8 CFR 204.300(a). Prospective adoptive parents seeking to adopt children habitually resident in a Convention country may begin a Convention adoption case by filing Form I-800A, Application for Determination of Suitability to Adopt a Child from a Convention Country, on April 1, 2008.

View the Interim Rule

To view the interim rule published on October 4, 2007, see the url listed below: http://a257.g.akamaitech.net/7/257/2422/01jan20071800/edocket.access.gpo.gov/2007/E7-18992.htm.

Dated: March 18, 2008.
Emilio T. Gonzalez,
Director, U.S. Citizenship and Immigration Services.

[FR Doc. 08-1069 Filed 3-21-08; 8:45 am]

BILLING CODE 4410-10-P